DEPARTMENT OF THE INTERIOR

Fish and Wildlife Service

Endangered and Threatened Wildlife and Plants; Initiation of a 5-Year Review of Black-Footed Ferret (Mustela nigripes) and Pallid Sturgeon (Scaphirhynchus albus)

AGENCY: Fish and Wildlife Service, Interior.

ACTION: Notice.

SUMMARY: The U.S. Fish and Wildlife Service (Service) announces a 5-year review of black-footed ferret (Mustela nigripes) and pallid sturgeon (Scaphirhynchus albus) under section 4(c)(2)(A) of the Endangered Species Act of 1973 (ESA). A 5-year review is a periodic process conducted to ensure that the listing classification of a species is accurate. A 5-year review is based on the best scientific and commercial data available at the time of the review; therefore, we are requesting submission of any such information on black-footed ferret and pallid sturgeon that has become available since their original listings as endangered species. Based on the results of this 5-year review, we will make the requisite findings under section 4(c)(2)(B) of the ESA.

DATES: To allow us adequate time to conduct our reviews on the statuses of each of these species, we must receive your information no later than September 6, 2005. However, we will continue to accept new information about any listed species at any time.

ADDRESSES: Submit information on black-footed ferret to Pete Gober, South Dakota Field Office, U.S. Fish and Wildlife Service, 420 S. Garfield Avenue, Suite 400, Pierre, South Dakota 57501. Submit information on pallid sturgeon to George Jordan, U.S. Fish and Wildlife Service, 2900 4th Avenue North, Room 301, Billings, Montana 59101. Information received in response to this notice and review will be available for public inspection, by appointment, during normal business hours, at the above addresses.

FOR FURTHER INFORMATION CONTACT: Black-footed ferret—Pete Gober, South Dakota Field Office Supervisor, at (605) 224-8693, extension 24. Pallid sturgeon—George Jordan, Pallid Sturgeon Recovery Coordinator, at (406) 247-7365.

SUPPLEMENTARY INFORMATION: Under the ESA (16 U.S.C. 1531 et seq.), the Service maintains a list of endangered and threatened wildlife and plant species at 50 CFR 17.11 (for animals) and 17.12 (for plants). Section 4(c)(2)(A) of the ESA requires that we conduct a review of listed species at least once every 5 years. Then, based on such reviews, under section 4(c)(2)(B), we determine whether or not any species should be removed from the List (delisted), or reclassified from endangered to threatened or from threatened to endangered. Delisting a species must be supported by the best scientific and commercial data available and considered only if such data substantiate that the species is neither endangered nor threatened for one or more of the following reasons—(1) the species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces our active review of the Black-footed ferret and Pallid sturgeon, both of which are currently listed as endangered. We request submission of any new information on the black-footed ferret or the pallid sturgeon, or both, that has become available since their original listings as endangered species in 1967 (32 FR 4001) and 1990 (55 FR 36641), respectively.

Public Solicitation of New Information

To ensure that the 5-year review is complete and based on the best available scientific and commercial information, we are soliciting new information from the public, concerned governmental agencies, Tribes, the scientific community, industry, environmental entities, and any other interested parties concerning the status of black-footed ferret and pallid sturgeon.

The 5-year review considers the best scientific and commercial data and all new information that has become available since the listing determination or most recent status review of each species. Categories of requested information include—(A) species biology, including but not limited to population trends, distribution, abundance, demographics, and genetics; (B) habitat conditions, including but not limited to amount, distribution, and suitability; (C) conservation measures that have been implemented that benefit the species; (D) threat status and trends; and (E) other new information, data, or corrections, including but not limited to taxonomic or nomenclatural changes, identification of erroneous information contained in the List, and improved analytical methods.

If you wish to provide information for one or both of these species for 5-year review, you may submit your comments and materials regarding black-footed ferret to Pete Gober, South Dakota Field Office Supervisor (see ADDRESSES section); or your comments and materials regarding pallid sturgeon to George Jordan, Pallid Sturgeon Recovery Coordinator (see ADDRESSES section). Our practice is to make comments, including names and home addresses of respondents, available for public review during regular business hours. Respondents may request that we withhold a respondent's identity, as allowable by law. If you wish us to withhold your name or address, you must state this request prominently at the beginning of your comment. However, we will not consider anonymous comments. To the extent consistent with applicable law, we will make all submissions from organizations or businesses, and from individuals identifying themselves as representatives or officials of organizations or businesses, available for public inspection in their entirety. Comments and materials received will be available for public inspection, by appointment, during normal business hours (see ADDRESSES section).

Authority

This document is published under the authority of the Endangered Species Act of 1973, as amended (16 U.S.C. 1531 et seq.).

Dated: June 16, 2005.
Hannibal Bolton,
Acting Deputy Regional Director, Denver, Colorado.

[FR Doc. 05-13327 Filed 7-6-05; 8:45 am]

BILLING CODE 4310-55-P